DEPARTMENT OF COMMERCE

National Oceanic and Atmospheric Administration

RIN 0648-XF214

Marine Mammals; File No. 21026

AGENCY: National Marine Fisheries Service (NMFS), National Oceanic and Atmospheric Administration (NOAA), Commerce.

ACTION: Notice; receipt of application.

SUMMARY: Notice is hereby given that Dorian Houser, Ph.D., National Marine Mammal Foundation, 22400 Shelter Island Drive #200, San Diego, CA 92106, has applied in due form for a permit to conduct research on cetaceans stranded or in rehabilitation facilities in the United States.

DATES: Written, telefaxed, or email comments must be received on or before March 20, 2017.

ADDRESSES: The application and related documents are available for review by selecting “Records Open for Public Comment” from the “Features” box on the Applications and Permits for Protected Species (APPS) home page, https://apps.nmfs.noaa.gov, and then selecting File No. 21026 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant proposes to use evoked auditory potential testing on stranded cetaceans to determine their hearing range. Up to 15 individuals of any species and any age class of non-listed or ESA-listed cetacean may be tested. Passive acoustic recording, suction-cup sensors, subcutaneous electrodes, and ultrasound may be used during testing. Listed cetacean species may include: Beluga (Delphinapterus leucas), blue (Balaenoptera musculus), bowhead (Balaena mysticetus), false killer (Pseudorca crassidens), fin (B. physalus), gray (Eschrichtius robustus), humpback (Megaptera novaeangliae), killer (Orcinus orca), North Atlantic right (Eubalaena glacialis), North Pacific right (Eubalaena japonica), sei (B. borealis), and sperm (Physeter macrocephalus) whales, and vaquita (Phocoena sinus). The permit would be valid for five years from the date of issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 13, 2017.
Julia Harrison,
Chief, Permits and Conservation Division, Office of Protected Resources, National Marine Fisheries Service.

[FR Doc. 2017-03171 Filed 2-16-17; 8:45 am]

BILLING CODE 3510-22-P